DEPARTMENT OF AGRICULTURE

Submission for OMB Review; Comment Request; 30-Day Federal Register Notice; National Agricultural Statistics Service

Title: Fast Track Generic Clearance for the Collection of Qualitative Feedback on Customer Satisfaction Surveys.

OMB Control Number: 0535—New.

Summary of Collection: Executive Order 12862 directs Federal agencies to provide service to the public that matches or exceeds the best service available in the private sector. Improving National Agricultural Statistics Service (NASS) programs requires ongoing assessment of service delivery, by which we mean systematic review of the operation of a program, the quality, usability, and ease of accessing our surveys and public information compared to a set of explicit or implicit standards, as a means of contributing to the continuous improvement of the program.

Need and Use of the Information: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between NASS and its customers and stakeholders. It will allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

Description of Respondents: Farms; Business or other for-profit; Not-for-profit Institutions and State, Local or Tribal Government.

Number of Respondents: 120,000.

Frequency of Responses: Reporting: On occasion.

Total Burden Hours: 8,375.

Charlene Parker,
Departmental Information Collection Clearance Officer.

[FR Doc. 2017-22613 Filed 10-17-17; 8:45 am]

BILLING CODE 3410-20-P